NATIONAL SCIENCE FOUNDATION

Business and Operations Advisory Committee; Notice of Meeting

In accordance with Federal Advisory Committee Act (Pub. L. 92-463, as amended), the National Science Foundation (NSF) announces the following meeting:

Name and Committee Code: Business and Operations Advisory Committee (9556).

Date and Time:

June 13, 2018; 1:00 p.m. to 5:30 p.m. (EST)

June 14, 2018; 8:00 a.m. to 12:00 p.m. (EST)

Place: National Science Foundation, 2415 Eisenhower Avenue, Alexandria, Virginia, 22314; Room E 2030.

Type of Meeting: Open.

Contact Person: Patty Balanga, National Science Foundation, 2415 Eisenhower Avenue, Alexandria, VA, 22314; (703) 292-8100.

Purpose of Meeting: To provide advice concerning issues related to the oversight, integrity, development and enhancement of NSF's business operations.

Agenda

Wednesday, June 13, 2018; 1:00 p.m.-5:30 p.m.

Welcome/Introductions; BFA/OIRM/OLPA/Budget Updates; President's Management Agenda—Overview; Deeper Dive—Cross-Agency Priority Goals, Interaction of Agency CFO and CIO.

Thursday, June 14, 2018; 8:00 a.m.-12:00 p.m.

Enterprise Risk Management; Customer Service; Meeting with Dr. Córdova; Committee Business/Wrap Up.

Dated: May 14, 2018.
Crystal Robinson,
Committee Management Officer.

[FR Doc. 2018-10561 Filed 5-16-18; 8:45 am]

BILLING CODE 7555-01-P